DEPARTMENT OF THE TREASURY

Office of Foreign Assets Control

Identification of Entities Pursuant to the Iranian Transactions and Sanctions Regulations and Executive Order 13599

AGENCY: Office of Foreign Assets Control, Treasury.

ACTION: Notice.

SUMMARY: The Treasury Department's Office of Foreign Assets Control (“OFAC”) is publishing the names of 38 entities identified as the Government of Iran under the Iranian Transactions and Sanctions Regulations, 31 CFR part 560 (“ITSR”), and Executive Order 13599.

DATES: The identification made by the Director of OFAC of the entities identified in this notice, pursuant to the ITSR and Executive Order 13599, is effective June 4, 2013.

FOR FURTHER INFORMATION CONTACT: Assistant Director, Sanctions Compliance and Evaluation, Office of Foreign Assets Control, Department of the Treasury, Washington, DC 20220, Tel.: 202/622-2490.

SUPPLEMENTARY INFORMATION:

Electronic and Facsimile Availability

This document and additional information concerning OFAC are available from OFAC's Web site (www.treas.gov/ofac) or via facsimile through a 24-hour fax-on-demand service, Tel.: 202/622-0077.

Background

On February 5, 2012, the President issued Executive Order 13599, “Blocking Property of the Government of Iran and Iranian Financial Institutions” (the “Order”). Section 1(a) of the Order blocks, with certain exceptions, all property and interests in property of the Government of Iran, including the Central Bank of Iran, that are in the United States, that hereafter come within the United States, or that are or hereafter come within the possession or control of any United States person, including any foreign branch.

Section 7(d) of the Order defines the term “Government of Iran” to mean the Government of Iran, any political subdivision, agency, or instrumentality thereof, including the Central Bank of Iran, and any person owned or controlled by, or acting for or on behalf of, the Government of Iran.

Section 560.211(a) of the ITSR implements Section 1(a) of the Order. Section 560.304 of the ITSR defines the term “Government of Iran” to include: “(a) The state and the Government of Iran, as well as any political subdivision, agency, or instrumentality thereof, including the Central Bank of Iran; (b) Any person owned or controlled, directly or indirectly, by the foregoing; and (c) Any person to the extent that such person is, or has been, since the effective date, acting or purporting to act, directly or indirectly, for or on behalf of any of the foregoing; and (d) Any other person determined by the Office of Foreign Assets Control to be included within [(a) through (c)].”

On June 4, 2013, the Director of OFAC identified 38 entities as meeting the definition of the Government of Iran pursuant to the Order and the ITSR.

The listing for these entities is as follows:

1. AMIN INVESTMENT BANK (a.k.a. AMINIB), No. 51 Ghobadiyan Street, Valiasr Street, Tehran 1968917173, Iran; Web site http://www.aminib.com [IRAN].

2. BEHSAZ KASHANE TEHRAN CONSTRUCTION CO. (a.k.a. BEHSAZ KASHANEH CO.), No. 40, East Street Journal, North Shiraz Street, Sadra Avenue, Tehran, Iran; Web site http://www.behsazco.ir [IRAN].

3. COMMERCIAL PARS OIL CO., 9th Floor, No. 346, Mirdamad Avenue, Tehran, Iran [IRAN].

4. CYLINDER SYSTEM L.T.D. (a.k.a. CILINDER SISTEM D.O.O.; a.k.a. CILINDER SISTEM D.O.O. ZA PROIZVODNJU I USLUGE), Dr. Mile Budaka 1, Slavonski Brod 35000, Croatia; 1 Mile Budaka, Slavonski Brod 35000, Croatia; Web site http://www.csc-sb.hr; Registration ID 050038884 (Croatia); Tax ID No. 27694384517 (Croatia) [IRAN].

5. EXECUTION OF IMAM KHOMEINI'S ORDER (a.k.a. EIKO; a.k.a. SETAD; a.k.a. SETAD EJRAEI EMAM; a.k.a. SETAD-E EJRAEI-E FARMAN-E HAZRAT-E EMAM; a.k.a. SETAD-E FARMAN-EJRAEI-YE EMAM), Khaled Stamboli St., Tehran, Iran [IRAN].

6. GHADIR INVESTMENT COMPANY, 341 West Mirdamad Boulevard, Tehran, Iran; P.O. Box 19696, Tehran, Iran; Web site http://www.ghadir-invest.com [IRAN].

7. GHAED BASSIR PETROCHEMICAL PRODUCTS COMPANY (a.k.a. GHAED BASSIR), No. 15, Palizvani (7th) Street, Gandhi (South) Avenue, Tehran 1517655711, Iran; Km 10 of Khomayen Road, Golpayegan, Iran; Web site http://www.gbpc.net [IRAN].

8. GOLDEN RESOURCES TRADING COMPANY L.L.C. (a.k.a. “GRTC”), 9th Floor, Office No. 905, Khalid Al Attar Tower 1, Sheikh Zayed Road, After Crown Plaza Hotel, Al Wasl Area, Dubai, United Arab Emirates; Postal Box 34489, Dubai, United Arab Emirates; Postal Box 14358, Dubai, United Arab Emirates [IRAN].

9. HORMOZ OIL REFINING COMPANY, Next to the Current Bandar Abbas Refinery, Bandar Abbas City, Iran [IRAN].

10. IRAN & SHARGH COMPANY (a.k.a. IRAN AND EAST COMPANY; a.k.a. IRAN AND SHARGH COMPANY; a.k.a. IRANOSHARGH COMPANY; a.k.a. SHERKAT-E IRAN VA SHARGH), 827, North of Seyedkhandan Bridge, Shariati Street, P.O. Box 13185-1445, Tehran 16616, Iran; No. 41, Next to 23rd Alley, South Gandi St., Vanak Square, Tehran 15179, Iran; Web site http://www.iranoshargh.com [IRAN].

11. IRAN & SHARGH LEASING COMPANY (a.k.a. IRAN AND EAST LEASING COMPANY; a.k.a. IRAN AND SHARGH LEASING COMPANY; a.k.a. SHERKAT-E LIZING-E IRAN VA SHARGH), 1st Floor, No. 33, Shahid Atefi Alley, Opposite Mellat Park, Vali-e-Asr Street, Tehran 1967933759, Iran; Web site http://www.isleasingco.com [IRAN].

12. MARJAN PETROCHEMICAL COMPANY (a.k.a. MARJAN METHANOL COMPANY), Ground Floor, No. 39, Meftah/Garmsar West Alley, Shiraz (South) Street, Molla Sadra Avenue, Tehran, Iran; Post Office Box 19935-561, Tehran, Iran [IRAN].

13. MCS ENGINEERING (a.k.a. EFFICIENT PROVIDER SERVICES GMBH), Karlstrasse 21, Dinslaken, Nordrhein-Westfalen 46535, Germany [IRAN].

14. MCS INTERNATIONAL GMBH (a.k.a. MANNESMAN CYLINDER SYSTEMS; a.k.a. MCS TECHNOLOGIES GMBH), Karlstrasse 23-25, Dinslaken, Nordrhein-Westfalen 46535, Germany; Web site http://www.mcs-tch.com [IRAN].

15. MELLAT INSURANCE COMPANY, No. 48, Haghani Street, Vanak Square, Before Jahan-Kodak Cross, Tehran 1517973913, Iran; No. 40, Shahid Haghani Express Way, Vanak Square, Tehran, Iran; No. 9, Niloofar Street, Sharabyani Avenue, Taavon Boulevard, Shahr-e-Ziba, Tehran, Iran; 72 Hillview Court, Woking, Surrey GU22 7QW, United Kingdom; No. 697 Saeeidi Alley, Crossroads College, Enghelab St., Tehran, Iran; Web site http://www.mellatinsurance.com [IRAN].

16. MODABER (a.k.a. MODABER INVESTMENT COMPANY; a.k.a. TADBIR INDUSTRIAL HOLDING COMPANY) [IRAN].

17. OIL INDUSTRY INVESTMENT COMPANY (a.k.a. “O.I.I.C.”), No. 83, Sepahbod Gharani Street, Tehran, Iran; Web site http://www.oiic-ir.com [IRAN].

18. OMID REY CIVIL & CONSTRUCTION COMPANY (a.k.a. OMID DEVELOPMENT AND CONSTRUCTION; a.k.a. OMID REY CIVIL AND CONSTRUCTION COMPANY; a.k.a. OMID REY RENOVATION AND DEVELOPMENT CO.); Web site http://www.omidrey.com [IRAN].

19. ONE CLASS PROPERTIES (PTY) LTD. (a.k.a. ONE CLASS INCORPORATED), Cape Town, South Africa [IRAN].

20. ONE VISION INVESTMENTS 5 (PTY) LTD. (a.k.a. ONE VISION 5), 3rd Floor, Tygervalley Chambers, Bellville, Cape Town 7530, South Africa; Canal Walk, P.O. Box 17, Century City, Milnerton 7446, South Africa; Registration ID 2002/022757/07 (South Africa) [IRAN].

21. PARDIS INVESTMENT COMPANY (a.k.a. SHERKAT-E SARMAYEGOZARI-E PARDIS), Iran; Unit D4 and C4, 4th Floor, Building 29 Africa, Corner of 25th Street, Africa Boulevard, Tehran, Iran [IRAN].

22. PARS MCS (a.k.a. PARS MCS CO.; a.k.a. PARS MCS COMPANY), 2nd Floor, No. 4, Sasan Dead End, Afriqa Avenue, After Esfandiar, Crossroads, Tehran, Iran; No. 5 Sasan Alley, Atefi Sharghi St., Afrigha Boulevard, Tehran, Iran; Oshtorjan Industrial Zone, Zob-e Ahan Highway, Isafahan, Iran; Web site http://www.parsmcs.com [IRAN].

23. PARS OIL CO. (a.k.a. PARS OIL; a.k.a. SHERKAT NAFT PARS SAHAMI AAM), Iran; No. 346, Pars Oil Company Building, Modarres Highway, East Mirdamad Boulevard, Tehran 1549944511, Iran; Postal Box 14155-1473, Tehran 159944511, Iran; Web site http://www.parsoilco.com [IRAN].

24. PERSIA OIL & GAS INDUSTRY DEVELOPMENT CO. (a.k.a. PERSIA OIL AND GAS INDUSTRY DEVELOPMENT CO.; a.k.a. TOSE SANAT-E NAFT VA GAS PERSIA), 7th Floor, No. 346, Mirdamad Avenue, Tehran, Iran; Ground Floor, No. 14, Saba Street, Africa Boulevard, Tehran, Iran; Web site http://www.pogidc.com [IRAN].

25. POLYNAR COMPANY, No. 58, St. 14, Qanbarzadeh Avenue, Resalat Highway, Tehran, Iran; Web site http://www.polynar.com [IRAN].

26. REY INVESTMENT COMPANY, 2nd and 3rd Floors, No. 14, Saba Boulevard, After Esfandiar Crossroad, Africa Boulevard, Tehran 1918973657, Iran; Web site http://www.rey-co.com [IRAN].

27. REY NIRU ENGINEERING COMPANY (a.k.a. REY NIROO ENGINEERING COMPANY); Web site http://www.reyniroo.com [IRAN].

28. REYCO GMBH. (a.k.a. REYCO GMBH GERMANY), Karlstrasse 19, Dinslaken, Nordrhein-Westfalen 46535, Germany [IRAN].

29. RISHMAK PRODUCTIVE & EXPORTS COMPANY (a.k.a. RISHMAK COMPANY; a.k.a. RISHMAK EXPORT AND MANUFACTURING P.J.S.; a.k.a. RISHMAK PRODUCTION AND EXPORT COMPANY; a.k.a. RISHMAK PRODUCTIVE AND EXPORTS COMPANY; a.k.a. SHERKAT-E TOLID VA SADERAT-E RISHMAK), Rishmak Cross Rd., 3rd Km. of Amir Kabir Road, Shiraz 71365, Iran [IRAN].

30. ROYAL ARYA CO. (a.k.a. ARIA ROYAL CONSTRUCTION COMPANY), Iran [IRAN].

31. SADAF PETROCHEMICAL ASSALUYEH COMPANY (a.k.a. SADAF ASALUYEH CO.; a.k.a. SADAF CHEMICAL ASALUYEH COMPANY; a.k.a. SADAF PETROCHEMICAL ASSALUYEH INVESTMENT SERVICE), Assaluyeh, Iran; South Pars Special Economy/Energy Zone, Iran [IRAN].

32. TADBIR BROKERAGE COMPANY (a.k.a. SHERKAT-E KARGOZARI-E TADBIRGARAN-E FARDA; a.k.a. TADBIRGARAN FARDA BROKERAGE COMPANY; a.k.a. TADBIRGARAN-E FARDA BROKERAGE COMPANY; a.k.a. TADBIRGARANE FARDA MERCANTILE EXCHANGE CO.), Unit C2, 2nd Floor, Building No. 29, Corner of 25th Street, After Jahan Koudak, Cross Road Africa Street, Tehran 15179, Iran; Web site http://www.tadbirbroker.com [IRAN].

33. TADBIR CONSTRUCTION DEVELOPMENT COMPANY (a.k.a. GORUH-E TOSE-E SAKHTEMAN-E TADBIR; a.k.a. TADBIR BUILDING EXPANSION GROUP; a.k.a. TADBIR HOUSING DEVELOPMENT GROUP), Block 1, Mehr Passage, 4th Street, Iran Zamin Boulevard, Shahrak Qods, Tehran, Iran [IRAN].

34. TADBIR ECONOMIC DEVELOPMENT GROUP (a.k.a. TADBIR GROUP), 16 Avenue Bucharest, Tehran, Iran [IRAN].

35. TADBIR ENERGY DEVELOPMENT GROUP CO., 6th Floor, Mirdamad Avenue, No. 346, Tehran, Iran; Web site http://www.tadbirenergy.com [IRAN].

36. TADBIR INVESTMENT COMPANY, Tehran, Iran [IRAN].

37. TOSEE EQTESAD AYANDEHSAZAN COMPANY (a.k.a. TEACO; a.k.a. TOSEE EGHTESAD AYANDEHSAZAN COMPANY), 39 Gandhi Avenue, Tehran 1517883115, Iran [IRAN].

38. ZARIN RAFSANJAN CEMENT COMPANY (a.k.a. RAFSANJAN CEMENT COMPANY; a.k.a. ZARRIN RAFSANJAN CEMENT COMPANY), 2nd Floor, No. 67, North Sindokht Street, West Dr. Fatemi Avenue, Tehran 1411953943, Iran; Web site http://www.zarrincement.com [IRAN].

Dated: June 4, 2013.
Adam J. Szubin,
Director, Office of Foreign Assets Control.

[FR Doc. 2013-14828 Filed 6-20-13; 8:45 am]

BILLING CODE 4810-AL-P